FEDERAL ELECTION COMMISSION

Sunshine Act Meeting

AGENCY: Federal Election Commission.

Federal Register Citation of Previous Announcement: 77 FR 35680 (June 14, 2012).

DATE AND TIME: Tuesday, June 19, 2012 at 10:00 a.m.

PLACE: 999 E Street NW., Washington, DC (Ninth Floor).

STATUS: This meeting has been canceled.

CHANGES IN THE MEETING: This meeting has been canceled.

PERSON TO CONTACT FOR INFORMATION: Judith Ingram, Press Officer, Telephone: (202) 694-1220.

Shawn Woodhead Werth,
Secretary of the Commission.

[FR Doc. 2012-15194 Filed 6-18-12; 4:15 pm]

BILLING CODE 6715-01-P